DEPARTMENT OF HEALTH AND HUMAN SERVICES

Centers for Medicare & Medicaid Services

SES Performance Review Board

ACTION: Notice.

SUMMARY: Notice is hereby given of the appointment of members of the CMS Senior Executive Service (SES) Performance Review Board.

DATES: Effective September 30, 2004.

FOR FURTHER INFORMATION CONTACT: Donna Mueller, Executive Resources Management Team, Baltimore Human Resources Center, Department of Health and Human Services, C2-12-16, 7500 Security Boulevard, Baltimore, MD 21244-1850, (410) 786-5554.

SUPPLEMENTARY INFORMATION: Section 4314(c)(1) through (5) of Title 5, U.S.C., requires each agency to establish, in accordance with regulations prescribed by the Office of Personnel Management, one or more SES performance review boards. The purpose of the board is to provide fair and impartial review of the initial appraisal prepared by the senior executive's immediate supervisor; to make recommendations to the appointing authority regarding the performance of the senior executive; and to make recommendations for monetary performance awards. Composition of the specific PRB will be determined on an ad hoc basis from among the individuals listed below:

Gale Arden, Director, Disabled and Elderly Health Program Group.

Gary Bailey, Deputy Director for Health Plans, Center for Beneficiary Choices.

Dara Bendavid, Director, Program Integrity Group.

Judith Berek, Senior Advisor on National Policy Implementation.

Charlene Brown, Deputy Director, Center for Medicaid and State Operations.

Glenn Chaney, Director, Accounting Management Group.

Rose Crum-Johnson, Atlanta Regional Administrator.

Robert Donnelly, Director, Health Plan Policy Group.

John Dyer, Chief Operating Officer.

James Farris, Dallas Regional Administrator.

Jeffrey Flick, San Francisco Regional Administrator.

Robert Foreman, Director, Office of Legislation.

Richard Foster, Chief Actuary/Director Office of the Actuary.

Wallace Fung, Deputy Director (Technology).

Jacqueline Garner, Chicago Regional Administrator.

Edward Gendron, Director, Financial Systems Budget Group.

Thomas Gustafson, Deputy Director, Center for Medicare Management.

Stuart Guterman, Director, Office of Research, Development and Information.

Thomas Hamilton, Director, Office of Survey and Certification.

Kathleen Harrington, Director, Office of External Affairs.

Timothy B. Hill, Director, Office of Financial Management.

Gary Kavanagh, Director, Business Systems Operations Group.

Carmen Keller, Director, Office of Medicare Adjudication.

James Kerr, New York Regional Administrator.

Thomas Kickham, Director, Partnership and Promotion Group.

Herb Kuhn, Director, Center for Medicare Management.

Mary Laureno, Director, Beneficiary Information Services Group.

Timothy Love, Director, Office of Information Services.

Gail McGrath, Director, Center for Beneficiary Choices.

Michael McMullan, Deputy Director, Center for Beneficiary Choices.

Regina McPhillips, Director, Beneficiary Education and Analysis Group.

Solomon Mussey, Director, Office of Medicare and Medicaid Cost Estimates Group.

Leslie V. Norwalk, Deputy Administrator, Chair.

Kevin Piper, Director, Medicare Reform Implementation.

Elizabeth Richter, Director, Hospital and Ambulatory Policy Group.

Roy Ruff, Seattle Regional Administrator.

Jean Sheil, Director, Family and Children's Health Program Group.

Dennis Smith, Director, Center for Medicaid and State Operations.

Patricia Smith, Director, Health Plans Benefits Group.

Stewart Streimer, Director, Provider Billing Group.

Brenda Sykes, Deputy Director, Office of Operations Management.

Deborah Taylor, Deputy Director, Office of Financial Management.

Joe Tilghman, Kansas City Regional Administrator.

Alexander Trujillo, Denver Regional Administrator.

Sean Tunis, Director, Office of Clinical Standards and Quality.

John Voorhees, Director, Office of Operations Management.

Gerald Walters, Director, Financial Services Group.

Jacqueline White, Director, Office of Strategic Operations and Regulatory Affairs.

Laurence Wilson, Director, Chronic Care Policy Group.

Charlotte Yeh, Boston Regional Administrator.

Dated: September 20, 2004.
Leslie V. Norwalk,
Deputy Administrator, Centers for Medicare & Medicaid Services.

[FR Doc. 04-22418 Filed 10-1-04; 11:46 am]

BILLING CODE 4120-01-P